DEPARTMENT OF COMMERCE

International Trade Administration

[A-570-899]

Notice of Antidumping Duty Order: Certain Artist Canvas from the People's Republic of China

AGENCY: Import Administration, International Trade Administration, Department of Commerce.

SUMMARY: Based on affirmative final determinations by the Department of Commerce (“the Department”) and the International Trade Commission (“ITC”), the Department is issuing an antidumping duty order on certain artist canvas from the People's Republic of China (“PRC”). On May 15, 2006, the ITC notified the Department of its affirmative determination of material injury to a U.S. industry (Artist Canvas from China, Investigation No. 731-TA-1091 (Final), Publication 3853, May 2006).

EFFECTIVE DATE: June 1, 2006.

FOR FURTHER INFORMATION CONTACT: Michael Holton, Import Administration, International Trade Administration, U.S. Department of Commerce, 14th Street and Constitution Avenue NW, Washington, DC 20230; telephone: (202) 482-1324.

SUPPLEMENTARY INFORMATION:

Background

In accordance with section 735(d) and 777(i)(1) of the Tariff Act of 1930, as amended (“the Act”), on March 30, 2006, the Department published the Notice of Final Determination of Sales at Less Than Fair Value: Certain Artist Canvas from the People's Republic of China, 71 FR 16116 (March 30, 2006) (“Final Determination”). A notice of correction was published on May 8, 2006 to correct one of the exporter and producer names that was published in the Final Determination. See Notice of Correction to Notice of Final Determination of Sales at Less Than Fair Value: Certain Artist Canvas from the People's Republic of China, 71 FR 26735 (May 8, 2006).

Scope of Order

The products covered by this order are artist canvases regardless of dimension and/or size, whether assembled or unassembled, that have been primed/coated, whether or not made from cotton, whether or not archival, whether bleached or unbleached, and whether or not containing an ink receptive top coat. Priming/coating includes the application of a solution, designed to promote the adherence of artist materials, such as paint or ink, to the fabric. Artist canvases (i.e., pre-stretched canvases, canvas panels, canvas pads, canvas rolls (including bulk rolls that have been primed), printable canvases, floor cloths, and placemats) are tightly woven prepared painting and/or printing surfaces. Artist canvas and stretcher strips (whether or not made of wood and whether or not assembled) included within a kit or set are covered by this proceeding.

Artist canvases subject to this order are currently classifiable under subheadings 5901.90.20.00 and 5901.90.40.00 of the Harmonized Tariff Schedule of the United States (“HTSUS”). Specifically excluded from the scope of this order are tracing cloths, “paint-by-number” or “paint-it-yourself” artist canvases with a copyrighted preprinted outline, pattern, or design, whether or not included in a painting set or kit.¹ Also excluded are stretcher strips, whether or not made from wood, so long as they are not incorporated into artist canvases or sold as part of an artist canvas kit or set. While the HTSUS subheadings are provided for convenience and customs purposes, our written description of the scope of this proceeding is dispositive.

¹ Artist canvases with a non-copyrighted preprinted outline, pattern, or design are included in the scope, whether or not included in a painting set or kit.

Additionally, we have determined that canvas woven and primed in India but cut and stretched in the PRC and exported from the PRC is not subject to the order covering artist canvas from the PRC.

Antidumping Duty Order

On May 15, 2006, in accordance with section 735(d) of the Act, the ITC notified the Department of its final determination pursuant to section 735(b)(1)(A)(i) of the Act that an industry in the United States is materially injured by reason of less-than-fair-value imports of subject merchandise from the PRC. Therefore, in accordance with section 736(a)(1) of the Act, the Department will direct U.S. Customs and Border Protection (“CBP”) to assess, upon further instruction by the Department, antidumping duties equal to the amount by which the normal value of the merchandise exceeds the export price (or constructed export price) of the merchandise for all relevant entries of certain artist canvas from the PRC. These antidumping duties will be assessed on all unliquidated entries of certain artist canvas from the PRC entered, or withdrawn from the warehouse, for consumption on or after November 7, 2005, the date on which the Department published its Notice of Preliminary Determination of Sales at Less Than Fair Value: Certain Artist Canvas from the People's Republic of China, 70 FR 67412 (November 7, 2005) (“Preliminary Determination”).

Section 733(d) of the Act states that instructions issued pursuant to an affirmative preliminary determination may not remain in effect for more than four months except where exporters representing a significant proportion of exports of the subject merchandise request the Department to extend that four-month period to no more than six months. At the request of exporters that account for a significant proportion of the PRC exports of the subject merchandise, we extended the four-month period to no more than six months. See Preliminary Determination. In this investigation, the six-month period beginning on the date of the publication of the preliminary determination ends on May 5, 2006. Furthermore, section 737 of the Act states that definitive duties are to begin on the date of publication of the ITC's final injury determination. Therefore, in accordance with section 733(d) of the Act and our practice, we will instruct CBP to terminate the suspension of liquidation and to liquidate, without regard to antidumping duties, unliquidated entries of artist canvas from the PRC entered, or withdrawn from warehouse, for consumption on or after May 6, 2006, and before the date of publication of the ITC's final injury determination in the Federal Register. Suspension of liquidation will resume on the date of publication of the ITC's final injury determination in the Federal Register.

Effective on the date of publication of the ITC's final affirmative injury determination, CBP officers will require, at the same time as importers would normally deposit estimated duties on this merchandise, a cash deposit equal to the estimated weighted-average antidumping duty margins as listed below. The “PRC-wide” rate applies to all exporters of subject merchandise not specifically listed. The weighted-average dumping margins are as follows:

Artist Canvas from the PRC - Weighted-average Dumping Margins
Exporter | Producer | Weighted-Average Deposit Rate
Ningbo Conda | Jinhua Universal | 264.09
Ningbo Conda | Wuxi Silver Eagle Cultural Goods Co. Ltd. | 264.09
Conda Painting | Wuxi Pegasus Cultural Goods Co. Ltd. | 264.09
Jinhua Universal | Jinhua Universal | 264.09
Phoenix Materials | Phoenix Materials | 77.90
Phoenix Materials | Phoenix Stationary | 77.90
Phoenix Materials | Shuyang Phoenix | 77.90
Phoenix Stationary | Phoenix Materials | 77.90
Phoenix Stationary | Phoenix Stationary | 77.90
Phoenix Stationary | Shuyang Phoenix | 77.90
Jiangsu By-products | Wuxi Yinying Stationery and Sports Products Co. Ltd. Corp. | 77.90
Jiangsu By-products | Su Yang Yinying Stationery and Sports Products Co. Ltd. Corp. | 77.90
China-Wide Rate |  | 264.09

This notice constitutes the antidumping duty order with respect to certain artist canvas from the PRC pursuant to section 736(a) of the Act. Interested parties may contact the Department's Central Records Unit, Room B-099 of the main Commerce building, for copies of an updated list of antidumping duty orders currently in effect.

This order is published in accordance with section 736(a) of the Act and 19 CFR 351.211.

Dated: May 24, 2006.
David M. Spooner,
Assistant Secretary for Import Administration.

[FR Doc. E6-8514 Filed 5-31-06; 8:45 am]

BILLING CODE 3510-DS-S